DEPARTMENT OF LABOR

Employment and Training Administration

[TA-W-71,601]

The Bank of New York Mellon Corporate Trust Operations Division Also Known as Global Corporate Trust Billing Including On-Site Leased Workers From Aerotek, Inc., Also Known as Allegis Group and Teksystems, Aetea Information Technology, Inc., Ajilon Consulting, American, Cybersystems, Inc., and Comforce Staffing Services, Syracuse, NY; Amended Certification Regarding Eligibility To Apply for Worker Adjustment Assistance

In accordance with Section 223 of the Trade Act of 1974, as amended (“Act”), 19 U.S.C. 2273, the Department of Labor issued a Certification of Eligibility to Apply for Worker Adjustment Assistance on March 25, 2010, applicable to workers of The Bank of New York Mellon, Corporate Trust Operations Division, also known as Global Corporate Trust Billing, including on-site leased workers from Aerotek, Inc., AETEA Information Technology, Inc., Ajilon Consulting, American Cybersystems, Inc., and Comforce Staffing Services, Syracuse, New York. The notice was published in the Federal Register on April 23, 2010 (75 FR 21356).

At the request of the State Agency, the Department reviewed the certification for workers of the subject firm. The workers are engaged in customized trust services, such as debt finance transactions.

The company reports that Aerotek, Inc., an on-site leasing firm at the subject firm, is also known as Allegis Group and TEKsystems.

Information also shows that workers separated from employment from Aerotek, Inc. had their wages reported under a separate unemployment insurance (UI) tax account for Allegis Group and TEKsystems.

Accordingly, the Department is amending this certification to properly reflect this matter.

The intent of the Department's certification is to include all workers of the subject firm who were adversely affected by a shift in customized trust services to Pune, India.

The amended notice applicable to TA-W-71,601 is hereby issued as follows:

All workers of The Bank of New York Mellon, Corporate Trust Operations Division, including on-site leased workers of Aerotek, Inc., also known as Allegis Group and TEKsystems, AETEA Information Technology, Inc., Ajilon Consulting, American Cybersystems, Inc., and Comforce Staffing Services, Syracuse, New York, who became totally or partially separated from employment on or after July 7, 2008, through March 25, 2012, and all workers in the group threatened with total or partial separation from employment on date of certification through two years from the date of certification, are eligible to apply for adjustment assistance under Chapter 2 of Title II of the Trade Act of 1974, as amended.

Signed at Washington, DC, this 1st day of September 2010.
Del Min Amy Chen,
Certifying Officer, Division of Trade Adjustment Assistance.

[FR Doc. 2010-22718 Filed 9-10-10; 8:45 am]

BILLING CODE 4510-FN-P